Title 3—

The President

Memorandum of July 21, 2010

Delegation of Certain Functions Under Section 3134 of the National Defense Authorization Act for Fiscal Year 2008 (Public Law 110-181)

Memorandum for the Secretary of Energy

By the authority vested in me as President by the Constitution and the laws of the United States, including section 301 of title 3, United States Code, I hereby delegate to you the functions conferred upon the President by section 3134 of the National Defense Authorization Act for Fiscal Year 2008 (Public Law 110-181), to make the specified report to the Congress.

You are authorized and directed to publish this memorandum in the Federal Register.

THE WHITE HOUSE,

Washington, July 21, 2010

[FR Doc. 2010-18441

Filed 7-23-10; 11:15 am]

Billing code 6450-01-P